DEPARTMENT OF HOMELAND SECURITY

Coast Guard

33 CFR Part 100

[Docket No. USCG-2023-0768]

Special Local Regulations; Clearwater Offshore Nationals/Race World Offshore; Gulf of Mexico; Clearwater, FL

AGENCY: Coast Guard, Department of Homeland Security (DHS).

ACTION: Notification of enforcement of regulation.

SUMMARY: The Coast Guard will enforce special local regulations for the Clearwater offshore Nationals/Race World Offshore on September 24, 2023, to provide for the safety of life on navigable waterways during this event. Our regulation for marine events within the Seventh Coast Guard District identifies the regulated area for this event in Clearwater, FL. During the enforcement periods, the operator of any vessel in the regulated area must comply with directions from the Patrol Commander or any designated representative.

DATES: The regulations in 33 CFR 100.703 will be enforced from 11:30 a.m. until 4 p.m., on September 24, 2023, for the location identified in Item 6 in table 1 to § 100.703.

FOR FURTHER INFORMATION CONTACT: If you have questions about this notification of enforcement, call or email Marine Science Technician First Class Mara Brown, Sector St. Petersburg Prevention Department, Coast Guard; telephone (813) 228-2191, email mara.j.brown@uscg.mil.

SUPPLEMENTARY INFORMATION: The Coast Guard will enforce the special local regulations in 33 CFR 100.703, table 1 to § 100.703, Item No. 6, for the Clearwater Offshore Nationals/Race World Offshore regulated area from 11:30 a.m. until 4 p.m., on September 24, 2023. This action is being taken to provide for the safety of life on navigable waterways during this event. Our regulation for recurring marine events, Sector St. Petersburg, § 100.703, table 1 to § 100.703, Item No. 6, specifies the location of the regulated area for the Clearwater Offshore Nationals/Race World Offshore which encompasses portions of the Gulf of Mexico near Clearwater, FL. During the enforcement periods, as reflected in § 100.703(c), if you are the operator of a vessel in the regulated area you must comply with directions from the Patrol Commander or any designated representative.

In addition to this notification of enforcement in the Federal Register, the Coast Guard plans to provide notification of this enforcement period via the Local Notice to Mariners, marine information broadcasts, or both.

Dated: September 13, 2023.
Michael P. Kahle,
Captain, U.S. Coast Guard, Captain of the Port St. Petersburg.

[FR Doc. 2023-20223 Filed 9-18-23; 8:45 am]

BILLING CODE 9110-04-P